DEPARTMENT OF ENERGY

Federal Energy Regulatory Commission

[Docket No. RP96-389-056]

Columbia Gulf Transmission Company; Notice of Compliance Filing

July 12, 2002.

Take notice that on July 8, 2002, Columbia Gulf Transmission Company (Columbia Gulf) tendered for filing as part of its FERC Gas Tariff, Second Revised Volume No. 1, the following revised tariff sheet to become effective June 26, 2002:

Second Revised Sheet No. 316

Columbia Gulf states on May 24, 2002, it made a filing with the Federal Energy Regulatory Commission (Commission) seeking approval of a Rate Schedule FTS-1 negotiated rate agreement with Encana Energy Services, Inc. in Docket No. RP96-389-052. On June 26, 2002, the Commission issued an order on the filing, approving the service agreement effective November 1, 2002, and directing Columbia Gulf to file a tariff sheet identifying the agreement as a non-conforming agreement in compliance with Section 154.112(b) of the Commission's regulations.

Columbia Gulf states that copies of its filing have been served to each parties listed on the service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-18100 Filed 7-17-02; 8:45 am]

BILLING CODE 6717-01-P